DEPARTMENT OF HOMELAND SECURITY

Coast Guard

[Docket No. USCG-2023-0586]

National Commercial Fishing Safety Advisory Committee; September 2023 Meetings

AGENCY: Coast Guard, Department of Homeland Security.

ACTION: Notice of Federal advisory committee meeting.

SUMMARY: The National Commercial Fishing Safety Advisory Committee (Committee) will conduct a series of meetings over three days to discuss and make recommendations to the Secretary on matters related to reducing casualties and fatalities in the commercial fishing industry. See task statements included in this notice below for specifics. The meetings will be open to the public.

DATES:

Meetings: The Committee will hold a meeting on Tuesday, September 26, 2023, from 8 a.m. until 5 p.m. Pacific Daylight Time (PDT), Wednesday, September 27, 2023, from 8 a.m. until 5 p.m. PDT, and Thursday, September 28, 2023, from 8 a.m. until 5 p.m. PDT. The Committee meeting on Tuesday, September 26, 2023, from 8 a.m. to 9 a.m. will be dedicated to an administrative meeting (Committee members only). Please note these meetings may close early if the Committee has completed its business.

Comments and supporting documentation: To ensure your comments are received before the meeting, please submit your written comments no later than September 20, 2023.

ADDRESSES: The meeting will be held at the Federal Courthouse, 700 Stewart Street, Seattle, Washington 98101.

The National Commercial Fishing Safety Advisory Committee is committed to ensuring all participants have equal access regardless of disability status. If you require reasonable accommodation due to a disability to fully participate, please email Mr. Jonathan Wendland at Jonathan.G.Wendland@uscg.mil or call at 202-372-1245 as soon as possible.

Instructions: You are free to submit comments at any time, including orally at the meeting as time permits, but if you want your comment reviewed before the meeting, please submit your comments no later than September 20, 2023. We are particularly interested in comments regarding the topics in the “Agenda” section below. We encourage you to submit comments through Federal eRulemaking Portal at https://www.regulations.gov. If your material cannot be submitted using https://www.regulations.gov, call or email the individual in the FOR FURTHER INFORMATION CONTACT section of this document for alternate instructions. You must include the docket number [USCG-2023-0586]. Comments received will be posted without alteration at https://www.regulations.gov including any personal information provided. You may wish to review the Privacy and Security notice available on the homepage of https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Jonathan Wendland, Alternate Designated Federal Officer (ADFO) of the National Commercial Fishing Safety Advisory Committee, 2703 Martin Luther King Jr. Ave. SE, Stop 7509, Washington, DC 20593-7509, telephone 202-372-1245 or Jonathan.G.Wendland@uscg.mil.

SUPPLEMENTARY INFORMATION: Notice of this meeting is in compliance with the Federal Advisory Committee Act, (Pub. L. 117-286, 5 U.S.C., ch. 10). The National Commercial Fishing Safety Advisory Committee is authorized by section 601 of the Frank LoBiondo Coast Guard Authorization Act of 2018, (Pub. L. 115-282, 132 Stat. 4190), and is codified in 46 U.S.C. 15102. The Committee operates under the provisions of the Federal Advisory Committee Act and 46 U.S.C. 15109. The National Commercial Fishing Safety Advisory Committee provides advice and recommendations to the Secretary of Homeland Security through the Commandant of the U.S. Coast Guard (USCG), on matters relating to the safe operation of vessels including the matters of:

(A) navigation safety;

(B) safety equipment and procedures;

(C) marine insurance;

(D) vessel design, construction, maintenance, and operation; and

(E) personnel qualifications and training.

Additionally, the Committee will review regulations proposed under chapter 45 of Title 46 of U.S. Code (during preparation of the regulations) and review marine casualties and investigations of vessels covered by chapter 45 of Title 46 U.S. Code and make recommendations to the Secretary of Homeland Security to improve safety and reduce vessel casualties.

Agenda

Day 1

The agenda for the National Commercial Fishing Safety Advisory Committee meeting is as follows:

I. Opening

a. Call to Order and Designated Federal Officer (DFO) Remarks

b. Roll Call and Determination of Quorum

c. Swear in New Members

d. USCG Leadership Remarks

II. Administration

a. Old Business

b. Review and Adoption of Meeting Agenda

c. Meeting Goals

d. Roberts Rules Simplified

III. General Updates

a. Regulatory Status

IV. Information Session

a. USCG District Presentations

b. Office of Investigations and Casualty Analysis (CG-INV) Drug Presentation

c. Marine Casualty Case Familiarization

V. Public Comment Period

VI. Meeting Recess

Day 2

VII. New Business

a. Task Statement #04-23: Review the multi-year statistics (provided by the USCG) regarding commercial fishing vessels of less than 200 gross ton accidents or losses that resulted in fatalities, injuries, or property damage. Major marine casualties such as the loss of the DESTINATION, NO LIMITS, and other fishing vessels with multiple fatalities and vessel losses should be reviewed to provide the background information necessary to other supplementary taskings in best efforts to make informed recommendations to the USCG.

b. Task Statement #05-23: Examine and make recommendations to the USCG on best practices to reduce and mitigate the negative consequences caused by the misalignment of state and federal regulations regarding drug laws legalizing the recreational and/or medical use for drugs also classed as dangerous drugs by federal law and applicable transportation related statutes. This is critical for the safety of operations and creating an environment for vessel personnel to work in a drug-free workplace, with special emphasis on critical safety sensitive jobs such as navigation and engineering duties to bring fishing vessels into alignment with other commercial vessels. Develop recommendations that include testing for pre-employment, routine, and reasonable cause. Submit recommendations to the Secretary of Homeland Security.

c. Task Statement #06-23: Examine and effectively disseminate recommendations for best practices to ensure full crew access to all parts of a vessel to allow for safe vessel operation. This task should address and examine things like a means to access all areas of the vessel and allow the crew to safely move fore and aft to remove ice, inspect the vessel, and operate critical equipment like the vessel's anchors and similar gear that does not require the crew to climb over the pot stack (for example, in the case of a vessel carrying pots, nets or similar devices to create pathways for access). Submit recommendations to the Secretary of Homeland Security.

d. Task Statement #07-23: Establish best practices for standard procedures and guidance for crew standing navigation watches. This should include a detailed crew orientation for each unique vessel, including the operation of critical equipment and establish clear and easily understood watchstanding orders to protect the safety of the vessel during its applicable operations. This could be accomplished as a standardized form or checklist. Submit recommendations to the Secretary of Homeland Security.

e. Task Statement #08-23: Evaluate and provide a comprehensive list of recommendations to the USCG, in the form of best practices (NVICs, policies, training), or amended or new regulations, regarding stability considerations which may pose severe risk to the safety of a fishing vessel such as icing, loading, the need for stability instructions, and vessel modifications. As part of this task, review the USCG's current level of oversight, provide recommendations on its adequacy, and specify needed changes to areas of the fishing safety program that need additional attention. Submit recommendations to the Secretary of Homeland Security.

f. Task Statement #09-23: Evaluate and provide recommendations to the USCG for best practices to address the high degree of risk associated with fishing vessel operations and how the acceptance of risk is prevalent and accepted in the fishing industry. Specifically, the Marine Board recommends the committee focus on topics including icing, heavy weather avoidance in voyage planning, and formalizing the navigation watch duties via onboard familiarization and written standard orders to ensure the safety of vessel during its transit and during fishing operations. Submit recommendations to the Secretary of Homeland Security.

g. Task Statement #10-23: Evaluate and provide recommendations to the USCG to ensure the most effective means to widely disseminate critical safety information for the commercial fishing industry. Submit recommendations to the Secretary of Homeland Security.

h. Task Statement #11-23: Review and provide recommendations on the development of a publicly accessible website that contains all information related to fishing industry activities, including vessel safety, inspections, enforcement, hazards, training, regulations (including proposed regulations), outages of the Rescue 21 system in Alaska and similar outages, and any other fishing-related activities. Submit recommendations to the Secretary of Homeland Security.

i. Task Statement #12-23: Discuss and make recommendations requiring watch alarms on specific types of commercial fishing vessels. Submit recommendations to the Secretary of Homeland Security.

j. Task Statement #13-23: Examine and make recommendations to the USCG on a way to widely distribute personal location beacons at minimal expense. Ensure availability and access for crewmembers of these critical lifesaving devices which could be acquired by consortiums, associations, or other organizations for distribution to vessel crews through federally funded grant programs or other programs. Submit recommendations to the Secretary of Homeland Security.

VIII. Subcommittee(s) Break Out and Discussions

a. Action Items by Task

IX. Public Comment Period

X. Committee Discussion and Actions

XI. Meeting Recess

Day 3

XII. Subcommittee Break Out and Discussions

a. Action Items by Task

XIII. Recommendations and Committee Actions

XIV. Full Committee Open Discussion

XV. Public Comment Period

XVI. Present Recommendations on Taskings to the USCG

XVII. Plans for Next Meeting

XVIII. Closing Remarks (Committee and USCG)

XIX. Adjournment of Meeting

A copy of pre-meeting documentation will be available at https://www.dco.uscg.mil/NCFSAC2023/no later than September 14, 2023. Alternatively, you may contact Mr. Jonathan Wendland as noted in the FOR FURTHER INFORMATION CONTACT section above.

There will be a public comment period scheduled each day of the meeting. Speakers are requested to limit their comments to 3 minutes. Please note that the public comment period may end before the period allotted, following the last call for comments. Please contact the individual listed in the FOR FURTHER INFORMATION CONTACT SECTION to register as a speaker.

Dated: August 30, 2023.
Amy M. Beach,
Captain, U.S. Coast Guard, Director of Inspections and Compliance.

[FR Doc. 2023-19131 Filed 9-5-23; 8:45 am]

BILLING CODE 9110-04-P